COMMITTEE FOR THE IMPLEMENTATION OF TEXTILE AGREEMENTS

Cancellation of Visa, ELVIS, Guaranteed Access Level (GAL) Certification, and Exempt Certification Requirements for Member Countries of the World Trade Organization (WTO)

June 29, 2005.

AGENCY: Committee for the Implementation of Textile Agreements (CITA).

ACTION: Issuing a directive to the Commissioner, Bureau of Customs and Border Protection canceling visa, quota reporting, and staged entry requirements for WTO member countries for goods exported prior to January 1, 2005.

EFFECTIVE DATE: July 1, 2005.

FOR FURTHER INFORMATION CONTACT: Philip J. Martello, Director, Trade and Data Division, Office of Textiles and Apparel, U.S. Department of Commerce, (202) 482-3400.

SUPPLEMENTARY INFORMATION:

Authority: Executive Order 11651 of March 3, 1972, as amended; Section 204 of the Agricultural Act of 1956, as amended (7 U.S.C. 1854).

In a notice and letter published in the Federal Register on December 17, 2004 (see 69 FR 75516), the United States terminated all visas, ELVIS transmissions, GAL certifications, and exempt certification requirement with trading partners who are members of the WTO and stated that such visa arrangements would not apply to goods exported from the country of origin on and after January 1, 2005.

Effective on July 1, 2005, the United States is terminating the requirements for textile visas, ELVIS transmissions, exempt certifications, guaranteed access level certifications, quota reporting, and staged entry (see 69 FR 72181, published on December 13, 2004.) for entry of goods subject to the WTO Agreement on Textiles and Clothing quotas that were exported prior to January 1, 2005. For countries that are not WTO members, that have continuing textile quotas and visa (and ELVIS) arrangements under bilateral agreements, visas will continue to be required for entry of goods exported prior to January 1, 2005. The termination of textile visa requirements and quota reporting also applies to the quotas which expired prior to January 1, 2005 for China, and staged entry for overshipments of quotas which expired prior to January 1, 2005. However, the quota for socks in categories 332/432/632part, exported from China during the October 29, 2004 - October 28, 2005 period, remains in effect.

In the letter below, CITA instructs the Bureau of Customs and Border Protection to cancel all requirements for visas, ELVIS transmissions, GAL certifications, exempt certifications, quota reporting, and staged entry for goods exported from the country of origin prior to January 1, 2005. For goods that are the product of countries that are not members of the WTO, applicable requirements for quotas, visas, ELVIS transmissions, GAL certifications, and exempt certifications will remain in effect.

James C. Leonard III,
Chairman, Committee for the Implementation of Textile Agreements.

Committee for the Implementation of Textile Agreements

June 29, 2005.

Commissioner,

Bureau of Customs and Border Protection, Washington, D.C. 20229.

Dear Commissioner: This directive amends, but does not cancel, the directive issued to you on December 14, 2004. That directive canceled all previous directives concerning requirements for visa, ELVIS transmissions, Guaranteed Access Level (GAL) Certifications, and Exempt Certifications, issued to you by the Chairman, Committee for the Implementation of Textile Agreements, for the following countries, covering cotton, wool, man-made fiber, silk blend and non-cotton vegetable fiber textile and textile products subject to the Agreement on Textiles and Clothing, effective for goods exported from those countries on and after January 1, 2005 from Bahrain, Bangladesh, Brazil, Cambodia, China, Colombia, Costa Rica, Dominican Republic, Egypt, El Salvador, Fiji, Guatemala, Haiti, Hong Kong, Hungary, India, Indonesia, Jamaica, Japan, Korea, Kuwait, Lebanon, Macau, Malaysia, Maldives, Mauritius, Macedonia, Nepal, Oman, Pakistan, Panama, Peru, Poland, Philippines, Qatar, Romania, Singapore, Slovak Republic, Sri Lanka, Taiwan, Thailand, Trinidad, Turkey, UAE, and Uruguay. It also amends, but does not cancel, the directive issued to you on December 9, 2004 concerning staged entry.

Effective on July 1, 2005, you are directed to cancel all requirements for visa, ELVIS, exempt certification, guaranteed access level certification, quota reporting, and staged entry for entry of goods exported prior to January 1, 2005. It will cover all textile and apparel exports from the aforementioned list of WTO member countries, except for the quota for socks from China exported from the country of origin prior to January 1, 2005. Visa and ELVIS transmissions will no longer be required for cotton socks from China in Category 332, exported prior to January 1, 2005.

The Committee for the Implementation of Textile Agreement has determined that this action falls within the foreign affairs exception to the rulemaking provisions of 5 U.S.C. 553(a)(1).

Sincerely,

James C. Leonard III,

Chairman, Committee for the Implementation of Textile Agreements.

[FR Doc.E5-3490 Filed 7-1-05; 8:45 am]

BILLING CODE 3510-DS-S